DEPARTMENT OF STATE

[Public Notice 3652]

Privacy Act of 1974: Creation of a New System of Records

Notice is hereby given that the Department of State proposes to create a new system of records, STATE-55, pursuant to the provisions of the Privacy Act of 1974, as amended [5 U.S.C. 522a (r)], and the Office of Management and Budget Circular No. A-130, Appendix I. STATE-55 was created to accommodate the transfer of records from the former Arms Control and Disarmament Agency (ACDA) as a result of the consolidation of ACDA with the Department as mandated by the Foreign Affairs Agencies Consolidation Act of 1998 (Pub. L. 105-277). The Department's report was filed with the Office of Management and Budget on April 23, 2001.

This system of records is being implemented by the Department of State to facilitate its responsibility for providing individuals with copies of its publication “World Military Expenditures and Arms Transfers.”

Any persons interested in commenting on the new system of records may do so by submitting comments in writing to Margaret Peppe, Chief; Programs and Policies Division; Office of IRM Programs and Services; A/RPS/IPS/PP; U.S. Department of State, SA-2; Washington, DC 20522-6001. This system of records will be effective 40 days from the date of publication, unless we receive comments that will result in a contrary determination.

The new system description, “World Military Expenditures and Arms Transfers Mailing List, STATE-55” will read as set forth below.

State-55

System name:

World Military Expenditures and Arms Transfers Mailing List.

Security classification:

Unclassified.

System location:

Department of State; 2201 C Street, NW; Washington, DC 20520.

Categories of individuals covered by the system:

Requesters of the publication “World Military Expenditures and Arms Transfers” (WMEAT).

Categories of records in the system:

Names and addresses of requestors of the publication “World Military Expenditures and Arms Transfers.”

Authority for maintenance of the system:

22 U.S.C. 2581 (Arms Control and Disarmament); 22 U.S.C. 2651a (Organization of the Department of State); 22 U.S.C. 3921 (Management of service); 5 U.S.C. 301 (Management of the Department of State); and Pub. L. 105-277 (Foreign Affairs Agencies Consolidation Act of 1998).

Purpose(s):

The information in this system of records is collected and maintained by the Bureau of Verification and Compliance to facilitate its responsibility for providing individuals with copies of WMEAT as requested.

Routine uses of records maintained in the system, including categories of users and purposes of such uses:

The information in this system is used to disseminate current editions of the publication WMEAT to individuals who have submitted a request for current and subsequent editions.

Also see the “Routine Uses” paragraph of the Prefatory Statement published in the Federal Register.

Policies and practices for storing, retrieving, accessing, retaining and disposing of records in the system:

Storage:

Electronic media.

Retrievability:

Individual name.

Safeguards:

All employees of the Department of State have undergone a thorough background security investigation. Access to the Department and its annexes is controlled by security guards and admission is limited to those individuals possessing a valid identification card or individuals under proper escort. Access to computerized files is password-protected and under the direct supervision of the system manager. The system manager has the capability of printing audit trails of access from the computer media, thereby permitting regular and ad hoc monitoring of computer usage.

Retention and disposal:

These records will be maintained until they become inactive, at which time they will be retired or destroyed in accordance with published records schedules of the Department of State and as approved by the National Archives and Records Administration. More specific information may be obtained by writing to the Director; Office of IRM Programs and Services; SA-2; Department of State; 515 22nd Street, NW; Washington, DC 20522-6001.

System manager and address:

Project Officer for WMEAT; Bureau of Verification and Compliance; Department of State; 2201 C Street, NW; Washington, DC 20520.

Notification procedure:

Individuals wanting to request information about themselves and having reason to believe that the Bureau of Verification and Compliance might have records pertaining to them should write to the Director; Office of IRM Programs and Services; SA-2; Department of State; 515 22nd Street, NW; Washington, DC 20522-6001. The individual must specify that he/she wishes the “World Military Expenditures and Arms Transfers” Mailing List to be checked. At a minimum, the individual should include: name; date and place of birth; current mailing address and zip code; signature and preferably his/her social security number.

Record access and amendment procedures:

Individuals who wish to gain access to or amend records pertaining to themselves should write to the Director, Office of IRM Programs and Services (address above).

Record source categories:

These records contain information obtained primarily from the individual who is the subject of these records.

Systems exempted from certain provisions of the Act:

None.

Dated: April 23, 2001.
Patrick F. Kennedy,
Assistant Secretary for the Bureau of Administration, Department of State.

[FR Doc. 01-10831 Filed 4-30-01; 8:45 am]

BILLING CODE 4710-24-P